DEPARTMENT OF TRANSPORTATION

Federal Highway Administration

Environmental Impact Statement: Bell County, TX

AGENCY: Federal Highway Administration (FHWA), DOT.

ACTION: Notice of Intent.

SUMMARY: The FHWA is issuing this notice to advise the public that an environmental impact statement will be prepared for a proposed transportation project in Bell County, Texas.

FOR FURTHER INFORMATION CONTACT: Mr. Salvador Deocampo, District Engineer, District A, Federal Highway Administration, Texas Division, 300 East 8th Street, Rm 826, Austin, Texas 78701, Telephone 512-536-5950.

SUPPLEMENTARY INFORMATION: The FHWA, in cooperation with the Texas Department of Transportation (TxDOT), will prepare an environmental impact statement (EIS) for the proposed extension of State Highway (SH) 201 from SH 195 to IH 35 in Bell County, Texas. Note: This project is listed in the Killeen-Temple Urban Transportation (K-TUTS) 2030 Project Rankings (long-range transportation plan) as “SH 201 Extension, Construct 2 lane divided roadway.” The project length is approximately 17 miles long. Areas within the cities of Killeen, Harker Heights, Belton and Salado are included in the study.

The proposed roadway is listed in the Mobility 2030 Metropolitan Transportation Plan, developed by the K-TUTS for the region over the next 25 years. The SH 201 extension is considered necessary to alleviate congestion on US 190, improve traffic flow in southern Bell County, and provide direct access to the Killeen-Fort Hood Regional Airport. The EIS will evaluate a range of alternatives, including the proposed action and the alternative of no action.

Opportunities for public involvement exist during scoping and public review of the draft EIS. Two early scoping meetings will be held to determine the scope of environmental issues and alternatives to be addressed in the EIS. The public scoping meetings will be held on Monday, March 26, 2007, at the Killeen Civic & Convention Center and Visitors Bureau located at 3601 South WS Young Drive, Killeen, Texas 76543 at 6:30 p.m. and on Tuesday, March 27, 2007, at the Salado Intermediate School located at 550 Thomas Arnold Road, Salado, Texas 76571 at 6:30 p.m. All interested citizens are encouraged to attend these meetings. Maps of the study area will be displayed at each meeting. This will be the first in a series of meetings to involve the public in preparing the EIS.

The EIS will evaluate potential impacts from construction and operation of the proposed roadway including, but not limited to, the following: transportation impacts (construction detours, construction traffic, and mobility improvement), air quality, and noise impacts from construction equipment and operation of the facilities, water quality impacts from construction area and roadway storm water runoff, impacts to waters of the United States including wetlands from right-of-way encroachment, impacts to historic and archeological resources, impacts to floodplains, and impacts and/or potential displacements to residents and businesses, land use, vegetation, wildlife, aesthetic and visual resources, socioeconomic resources, and cumulative impacts.

Letters describing the proposed action and soliciting comments will be sent to appropriate Federal, State and local agencies, and private organizations and citizens who have previously expressed or are known to have interest in this proposal. To ensure that the full range of issues related to this proposed action are addressed and all significant issues identified, comments and suggestions are invited from all interested parties. Comments or questions concerning this proposed action and the EIS should be directed to FHWA at the address above.

(Catalog of Federal Domestic Assistance Program Number 20.205, Highway Planning and Construction. The regulations implementing Executive Order 12372 regarding intergovernmental review of Federal programs apply to this program.)

Issued: January 26, 2007.
Ted West,
Urban Programs Engineer.

[FR Doc. 07-433 Filed 2-1-07; 8:45 am]

BILLING CODE 4910-22-M